DEPARTMENT OF THE INTERIOR

Bureau of Land Management

[LLAZ910000.L14300000.ET0000241A; AZA-35138]

Notice of Intent To Prepare an Environmental Impact Statement for a Proposed Withdrawal in the Vicinity of the Grand Canyon, Arizona

AGENCY: Bureau of Land Management, Interior.

ACTION: Notice of intent.

SUMMARY: The Bureau of Land Management (BLM), Arizona Strip District office is the lead agency on behalf of the BLM and the United States Forest Service for preparing an Environmental Impact Statement (EIS) to address potential effects of a proposed withdrawal of approximately 633,547 acres of BLM-administered public lands and 360,002 acres of National Forest System lands for up to 20 years from location and entry under the Mining Law of 1872. The purpose of the withdrawal, if determined to be appropriate, would be to protect the Grand Canyon watershed from adverse effects of locatable mineral exploration and mining, except for those effects stemming from valid existing rights. The U.S. Forest Service (Kaibab National Forest), National Park Service (Grand Canyon National Park), U.S. Fish and Wildlife Service, and U.S. Geological Survey have been invited and have agreed to participate as cooperating agencies. Additional local state and Federal agencies and Tribes may request cooperating agency status during this process.

DATES: By this notice, the BLM is announcing the beginning of the public scoping process for the EIS and soliciting input on the identification of issues. The public scoping period will end on October 26, 2009. During the public scoping period, the BLM solicits public comment on issues, concerns, and opportunities that should be considered in the analysis of the proposed action. Comments on issues, potential impacts, or suggestions for additional alternatives may be submitted in writing to the address listed below. To be considered in the Draft EIS analysis, comments must be received prior to the close of the scoping period or 15 days after the last public meeting, whichever is later.

The BLM will announce public scoping meetings to identify relevant issues through news media, newspapers, and the BLM's Web site. A meeting is planned to be held in Fredonia, Arizona on September 30, 2009, and in Flagstaff, Arizona on October 15, 2009. The time and location of the meetings will be announced at least 30 days in advance by the methods mentioned above. Other meetings will be scheduled and announced at least 15 days in advance by the same methods. Further opportunities for public participation will be provided upon publication of the Draft EIS, including a minimum 45-day public comment period.

ADDRESSES: Comments may be submitted by either of the following methods:

• Mail: Grand Canyon Mining Withdrawal Project, ATTN: Scott Florence, District Manager, Bureau of Land Management, Arizona Strip District Office, 345 East Riverside Drive, St. George, UT 84790-6714,

Electronic Mail: azasminerals@blm.gov.

FOR FURTHER INFORMATION CONTACT: For information regarding the EIS process or to have your name added to the mailing list, send requests to Scott Florence, BLM District Manager, 345 East Riverside Drive, St. George, Utah 84790-6714, (435) 688-3200. For information pertaining to the National Forest System Lands included in the proposed withdrawal, contact Michael Williams, Forest Supervisor, Forest Service, Kaibab National Forest, 800 South Sixth Street, Williams, Arizona 86046, (928) 635-8200.

SUPPLEMENTARY INFORMATION: The purpose of the public scoping process is to determine relevant issues that will influence the scope of the environmental analysis, including alternatives. The Secretary of the Interior proposes to withdraw approximately 633, 547 acres of BLM-administered public lands and 360,002 acres of National Forest System lands for up to 20 years from location and entry under the Mining Law of 1872, 30 U.S.C. 22 et seq. The proposed withdrawal applies to Federal locatable minerals, subject to valid existing rights, including locatable minerals that underlie non-Federal surface. It would not apply to non-Federal mineral estate. The purpose of the withdrawal, if determined to be appropriate, would be to protect the Grand Canyon watershed from adverse effects of locatable mineral exploration and mining, except for those effects stemming from valid existing rights. The EIS will analyze at least two alternatives, including a withdrawal as currently proposed and the “No Action” alternative, which would be to continue to allow location of new mining claims. Other alternatives may be analyzed as appropriate, including withdrawal of a smaller area.

The proposed action is to withdraw, subject to valid existing rights, certain public lands and National Forest System lands from location and entry under the 1872 Mining Law, but not the mineral leasing, geothermal leasing, mineral materials laws, or public land laws. The subject areas were previously described in BLM's Notice of Proposed Withdrawal and Opportunity for Public Meeting; Arizona which published in the Federal Register on July 21, 2009 [74 FR 35887]. The map for the “Petition/Application for Withdrawal” is available from the BLM Arizona Strip District office and the Forest Service Kaibab National Forest office at the addresses listed above.

The total areas described aggregate approximately 993,549 acres of BLM-administered public lands and National Forest System lands and any Federal locatable minerals underlying non-Federal surface in Coconino and Mohave Counties located adjacent to the Grand Canyon National Park in Arizona. The total non-Federal lands within the area aggregate approximately 85,673 acres in Coconino and Mohave Counties.

If the withdrawal were to be approved by the Secretary of the Interior, the closure to location and entry under the Mining Law would be subject to valid existing rights and authorized in accordance with section 204 of the Federal Land Policy and Management Act of 1976, 43 U.S.C. 1714, and the Federal regulations at 43 CFR part 2300.

You may submit comments on issues in writing to the BLM at any public scoping meeting, or you may submit them to the BLM using one of the methods listed in the ADDRESSES section above. To be most helpful, you should submit comments within 15 days after the last public meeting. Before including your address, phone number, email address, or other personal identifying information in your comment, you should be aware that your entire comment—including your personal identifying information—may be made publicly available at any time. While you can ask us in your comment to withhold your personal identifying information from public review, we cannot guarantee that we will be able to do so.

(Authority: 43 CFR part 2300)

Helen M. Hankins,
Arizona Associate State Director.

[FR Doc. E9-20626 Filed 8-25-09; 8:45 am]

BILLING CODE 4310-32-P